DEPARTMENT OF COMMERCE

National Oceanic and Atmospheric Administration

RIN 0648-XB128

Western Pacific Fishery Management Council; Public Meetings

AGENCY: National Marine Fisheries Service (NMFS), National Oceanic and Atmospheric Administration (NOAA), Commerce.

ACTION: Notice of a public meeting.

SUMMARY: The Western Pacific Fishery Management Council (Council) is hosting the Council Coordination Committee (CCC) meeting on Tuesday May 1, 2012 through Thursday May 3, 2012, in Hawaii. The purpose of the meeting is to enable NMFS and NOAA officials and others to exchange information with the Regional Fishery Council Chairs and Executive Directors.

DATES: The CCC general meeting session will be held on May 1, 2012, from 1:30 p.m. to 5:30 p.m., May 2, 2012 from 8 a.m. to 4 p.m. and on May 3, 2012 from 8 a.m. to 6 p.m. For specific times and agendas, see SUPPLEMENTARY INFORMATION.

ADDRESSES: The CCC meeting will be held at the Mauna Lani Bay Hotel Ballroom, 68-1400 Mauna Lani Drive, Big Island, HI 96743; telephone: (808) 885-6622.

FOR FURTHER INFORMATION CONTACT: Kitty M. Simonds, Executive Director; Council office, 1164 Bishop Street, Suite 1400, Honolulu, HI 96813; telephone: (808) 522-8220.

SUPPLEMENTARY INFORMATION: The agenda for the CCC general session meeting will include the items listed here. The order in which agenda items are addressed may change. The CCC will meet as late as necessary to complete scheduled business.

Schedule and Agenda for the CCC Meeting

1:30 p.m.- 5:30 p.m., Tuesday, May 1, 2012

1. Welcome and Introductions.

2. Opening Remarks.

3. Remarks from the Governor.

4. Council Reports on Status of Implementing Magnuson-Stevens Act (MSA) Provisions and Other Current Activities of Interest.

8 a.m.-4 p.m., Wednesday, May 2, 2012

5. Panel Presentation and Discussion on Endangered Species Act Jeopardy Determination in Fisheries Management—Past, Present and Future.

6. Panel Discussion.

7. Litigation.

a. Regional Fishery Management Council Counsel Representation.

b. Update on Lawsuits.

8. Stock Assessments.

a. Next Generation Stock Assessments and Priorities.

b. Fisheries and the Environment (FATE).

c. Advanced Technology.

d. National Scientific and Statistical Committee (SSC) IV Recommendations.

e. Use (or lack thereof) of Best Available Science.

f. Allocating Resources to Support Assessments.

9. Bycatch, Cooperative Research, Habitat, 5-year Council Research Plan—Funding Opportunities for These Programs.

10. Report on the Success of MPAs for Fisheries.

11. President Obama's Executive Order on Improving Regulations and Regulatory Review (E.O. 13563).

8 a.m.-6 p.m., Thursday, May 3, 2012

12. Report on Legislation.

13. Administration's Activities on Coastal and Marine Spatial Planning and the National Ocean Council.

14. Marginalization of Fisheries Through Competing Acts/Authorities.

15. Communities and Indigenous Issues.

16. International Fisheries Management.

a. Leveling the Playing Field for Domestic Fisheries.

b. Increasing Domestic Production to Reduce Trade Deficits.

c. Bilateral Agreements (Mexico, Canada, Others).

17. Budgets.

a. FY2012 Status of Council Funding.

b. FY2013 Update.

18. Communications.

a. NOAA Fisheries Activities.

b. Regional Fishery Management Council Coordination Committee Recommendations.

c. Managing Our Nations Fisheries 3.

19. Program Review.

a. Department of Commerce Inspector General Review of NOAA Fisheries and Fishery Management Councils in Fishery Rule Making Process and Transparency of Rule Making Process under MSA.

b. Mid-Atlantic Fishery Management Council Visioning Project.

20. Administrative Matters.

a. Freedom of Information Act Requests.

b. Technology—Virtual Public Hearings/Scoping versus Travel.

c. Professional Liability.

d. Other Business and Next Annual CCC Meeting.

21. Adjourn Meeting.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign

language interpretation or other auxiliary aids should be directed to Kitty M. Simonds, (808) 522-8220 (voice) or (808) 522-8226 (fax), at least 5 days prior to the meeting date.

Authority: 16 U.S.C. 1801 et seq.

Dated: March 28, 2012.
William D. Chappell,
Acting Director, Office of Sustainable Fisheries, National Marine Fisheries Service.

[FR Doc. 2012-7858 Filed 3-30-12; 8:45 am]

BILLING CODE 3510-22-P